DEPARTMENT OF DEFENSE

Defense Representative Guam, Commonwealth of the Northern Mariana Islands, Federated States of Micronesia and Republic of Palau; Notice of Extension of Public Comment Period for the Draft Environmental Impact Statement/Overseas Environmental Impact Statement for the Mariana Islands Range Complex

AGENCY: Department of Defense Representative Guam, Commonwealth of the Northern Mariana Islands, Federated States of Micronesia and Republic of Palau.

ACTION: Notice.

SUMMARY: A notice of availability was published by the U.S. Environmental Protection Agency in the Federal Register (74 FR 5652) on January 30, 2009 for the Mariana Islands Range Complex (MIRC) Draft Environmental Impact Statement/Overseas Environmental Impact Statement (EIS/OEIS). This notice announces the extension of the public comment period by 15 days from March 16, 2009 until March 31, 2009.

FOR FURTHER INFORMATION CONTACT: Mariana Islands Range Complex EIS, 258 Makalapa Drive, Suite 100, Attn: EV2, Pearl Harbor, HI 96860-3134; email at: marianas.tap.eis@navy.mil.

SUPPLEMENTARY INFORMATION: The public comment period on the MIRC Draft EIS/OEIS will be extended until March 31, 2009. Comments may be submitted in writing to Mariana Islands Range Complex EIS, 258 Makalapa Drive, Suite 100, Attn: EV2, Pearl Harbor, HI 96860-3134; or e-mailed to marianas.tap.eis@navy.mil. In addition, comments may be submitted Online at http://www.MarianasRangeComplexEIS.com during the comment period. All comments must be postmarked by March 31, 2009, to ensure they become part of the official record. All comments will be addressed in the Final EIS/OEIS. Copies of the Draft EIS/OEIS are available for public review at the following libraries:

1. University of Guam Robert F. Kennedy Memorial Library, Government Documents Tan Siu Lin Building, UOG Station, Mangilao, GU 96923;

2. Nieves M. Flores Memorial Library, 254 Martyr Street, Hagätna, GU 96910;

3. Rota Public Library, P.O. Box 879, Rota, MP 96951;

4. Joeten-Kiyu Public Library, P.O. Box 501092, Saipan, MP 96950;

5. Northern Marianas College Public Library, P.O. Box 459, Tinian, MP 96952.

The MIRC Draft EIS/OEIS is also available for electronic public viewing or download at http://www.MarianasRangeComplexEIS.com.

Dated: March 17, 2009.
A.M. Vallandingham,
Lieutenant Commander, Judge Advocate General's Corps, U.S. Navy, Federal Register Liaison Officer.

[FR Doc. E9-6173 Filed 3-20-09; 8:45 am]

BILLING CODE 3810-FF-P